NATIONAL SCIENCE FOUNDATION

Agency Information Collection Activities: Comment Request

AGENCY: National Science Foundation.

ACTION: Submission for OMB review; comment request.

SUMMARY: Under the Paperwork Reduction Act of 1995, Public Law 104-13 (44 U.S.C. 3501 et seq.), and as part of its continuing effort to reduce paperwork and respondent burden, the National Science Foundation (NSF) is inviting the general public and other Federal agencies to comment on this proposed continuing information collection. This is the second notice for public comment; the first was published in the Federal Register at 68 FR 19582 and no comments were received. NSF is forwarding the proposed submission to the Office of Management and Budget (OMB) for clearance simultaneously with the publication of this second notice.

DATES: Comments regarding these information collections are best assured of having their full effect if received by OMB by July 28, 2003.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Office at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Academic Research and Development Survey Expenditures at Universities and Colleges, FY 2003 through FY 2006.

OMB Control No.: 3145-0100.

Proposed Project: Separately budgeted current fund expenditures on research and development in the sciences and engineering performed by universities and colleges and federally funded research and development centers—A web survey, the Survey of Scientific and Engineering Expenditures at Universities and Colleges, originated in fiscal year (FY) 1954 and has been conducted annually since FY 1972. The survey is the academic expenditure component of the NSF statistical program that seeks to provide a “central clearinghouse for the collection, interpretation, and analysis of data on the availability of, and the current and projected need for, scientific and technical resources in the United States, and to provide a source of information for policy formulation by other agencies of the Federal government, as mandated in the National Science Foundation Act of 1950.

Use of the Information: The proposed project will continue the current survey cycle for three to five years. The Academic R&D Survey will be a census of the full population of an expected 646 institutions (610 universities or colleges plus 36 federally funded research and development centers—FFRDCs) for academic years 2003 through FY 2006. These institutions account for over 95 percent of the Nation's academic R&D funds. The survey has provided continuity of statistics on R&D expenditures by source of funds and by science & engineering (S&E) field, with separate data requested on current fund expenditures for research equipment by S&E field. Further breakdowns are collected on passed through funds to subrecipients and received as a subrecipient. Additional measures on current fund expenditures for separately budgeted research and development by field of science and engineering are requested as being part of the core survey on select Federal Government agency sources. Data are published in NSF's annual publication series Academic Science and Engineering R&D Expenditures and are available electronically on the World Wide Web.

The survey is a fully automated web data collection effort and is handled primarily by the administrators at the Institutional Research Offices. To minimize burden, institutions are provided with an abundance of guidance and help menus on the web, in addition to printing and responding via paper copy if necessary. Each record is pre-loaded with the institutions 2 previous year's data and a complete program for editing and trend checking. Response to this voluntary survey in FY 2001 was 95.4 percent.

Burden estimates are as follows: ¹

¹ Average burden hours for institutions responding to burden item.

Total number of institutions | Doctorate-granting burden hours | Masters-granting burden hours | Bachelors degree burden hours | FFRDC's burden hours
FY 1999 480 | 20.8 | 13.0 | 7.5 | 9.4
FY 2000 700 | 21.0 | 12.0 | 10.5 | 9.2
FY 2001 625 | 30.2 | 11.9 | 9.0 | 12.1

Dated: June 20, 2003.
Suzanne H. Plimpton,
Reports Clearance Officer, National Science Foundation.

[FR Doc. 03-16136 Filed 6-25-03; 8:45 am]

BILLING CODE 7555-01-M